DEPARTMENT OF HEALTH AND HUMAN SERVICES

Food and Drug Administration

[Docket No. 81F-0387]

Abbott Laboratories; Withdrawal of Food Additive Petition

AGENCY: Food and Drug Administration, HHS.

ACTION: Notice.

SUMMARY: The Food and Drug Administration (FDA) is announcing the withdrawal, without prejudice to a future filing, of a food additive petition (FAP 2B3593), filed by Abbott Laboratories, proposing that the food additive regulations be amended to provide for the safe use of cyclohexylsulfamic acid as a catalyst in resinous and polymeric coatings.

FOR FURTHER INFORMATION CONTACT: Julius Smith, Center for Food Safety and Applied Nutrition (HFS-215), Food and Drug Administration, 5100 Paint Branch Pkwy., College Park, MD 20740, 202-418-3091.

SUPPLEMENTARY INFORMATION: In a notice published in the Federal Register of January 19, 1982 (47 FR 2791), FDA announced that a food additive petition (FAP 2B3593) had been filed by Abbott Laboratories, North Chicago, IL 60064 (now 100 Abbott Park Rd., Abbott Park, IL 60064-6091). The petition proposed to amend the food additive regulations to provide for the safe use of cyclohexylsulfamic acid as a catalyst in resinous and polymeric coatings. Abbott Laboratories has now withdrawn the petition without prejudice to a future filing (21 CFR 171.7).

Dated: January 29, 2002.
Leslye M. Fraser,
Acting Director of Regulations and Policy, Center for Food Safety and Applied Nutrition.

[FR Doc. 02-4381 Filed 2-22-02; 8:45 am]

BILLING CODE 4160-01-S